Title 3—

The President

Executive Order 13960 of December 3, 2020

Promoting the Use of Trustworthy Artificial Intelligence in the Federal Government

By the authority vested in me as President by the Constitution and the laws of the United States of America, it is hereby ordered as follows:

Section 1. Purpose. Artificial intelligence (AI) promises to drive the growth of the United States economy and improve the quality of life of all Americans. In alignment with Executive Order 13859 of February 11, 2019 (Maintaining American Leadership in Artificial Intelligence), executive departments and agencies (agencies) have recognized the power of AI to improve their operations, processes, and procedures; meet strategic goals; reduce costs; enhance oversight of the use of taxpayer funds; increase efficiency and mission effectiveness; improve quality of services; improve safety; train workforces; and support decision making by the Federal workforce, among other positive developments. Given the broad applicability of AI, nearly every agency and those served by those agencies can benefit from the appropriate use of AI.

Agencies are already leading the way in the use of AI by applying it to accelerate regulatory reform; review Federal solicitations for regulatory compliance; combat fraud, waste, and abuse committed against taxpayers; identify information security threats and assess trends in related illicit activities; enhance the security and interoperability of Federal Government information systems; facilitate review of large datasets; streamline processes for grant applications; model weather patterns; facilitate predictive maintenance; and much more.

Agencies are encouraged to continue to use AI, when appropriate, to benefit the American people. The ongoing adoption and acceptance of AI will depend significantly on public trust. Agencies must therefore design, develop, acquire, and use AI in a manner that fosters public trust and confidence while protecting privacy, civil rights, civil liberties, and American values, consistent with applicable law and the goals of Executive Order 13859.

Certain agencies have already adopted guidelines and principles for the use of AI for national security or defense purposes, such as the Department of Defense's Ethical Principles for Artificial Intelligence (February 24, 2020), and the Office of the Director of National Intelligence's Principles of Artificial Intelligence Ethics for the Intelligence Community (July 23, 2020) and its Artificial Intelligence Ethics Framework for the Intelligence Community (July 23, 2020). Such guidelines and principles ensure that the use of AI in those contexts will benefit the American people and be worthy of their trust.

Section 3 of this order establishes additional principles (Principles) for the use of AI in the Federal Government for purposes other than national security and defense, to similarly ensure that such uses are consistent with our Nation's values and are beneficial to the public. This order further establishes a process for implementing these Principles through common policy guidance across agencies.

Sec. 2. Policy. (a) It is the policy of the United States to promote the innovation and use of AI, where appropriate, to improve Government operations and services in a manner that fosters public trust, builds confidence in AI, protects our Nation's values, and remains consistent with all applicable laws, including those related to privacy, civil rights, and civil liberties.

(b) It is the policy of the United States that responsible agencies, as defined in section 8 of this order, shall, when considering the design, development, acquisition, and use of AI in Government, be guided by the common set of Principles set forth in section 3 of this order, which are designed to foster public trust and confidence in the use of AI, protect our Nation's values, and ensure that the use of AI remains consistent with all applicable laws, including those related to privacy, civil rights, and civil liberties.

(c) It is the policy of the United States that the Principles for the use of AI in Government shall be governed by common policy guidance issued by the Office of Management and Budget (OMB) as outlined in section 4 of this order, consistent with applicable law.

Sec. 3. Principles for Use of AI in Government. When designing, developing, acquiring, and using AI in the Federal Government, agencies shall adhere to the following Principles:

(a) Lawful and respectful of our Nation's values. Agencies shall design, develop, acquire, and use AI in a manner that exhibits due respect for our Nation's values and is consistent with the Constitution and all other applicable laws and policies, including those addressing privacy, civil rights, and civil liberties.

(b) Purposeful and performance-driven. Agencies shall seek opportunities for designing, developing, acquiring, and using AI, where the benefits of doing so significantly outweigh the risks, and the risks can be assessed and managed.

(c) Accurate, reliable, and effective. Agencies shall ensure that their application of AI is consistent with the use cases for which that AI was trained, and such use is accurate, reliable, and effective.

(d) Safe, secure, and resilient. Agencies shall ensure the safety, security, and resiliency of their AI applications, including resilience when confronted with systematic vulnerabilities, adversarial manipulation, and other malicious exploitation.

(e) Understandable. Agencies shall ensure that the operations and outcomes of their AI applications are sufficiently understandable by subject matter experts, users, and others, as appropriate.

(f) Responsible and traceable. Agencies shall ensure that human roles and responsibilities are clearly defined, understood, and appropriately assigned for the design, development, acquisition, and use of AI. Agencies shall ensure that AI is used in a manner consistent with these Principles and the purposes for which each use of AI is intended. The design, development, acquisition, and use of AI, as well as relevant inputs and outputs of particular AI applications, should be well documented and traceable, as appropriate and to the extent practicable.

(g) Regularly monitored. Agencies shall ensure that their AI applications are regularly tested against these Principles. Mechanisms should be maintained to supersede, disengage, or deactivate existing applications of AI that demonstrate performance or outcomes that are inconsistent with their intended use or this order.

(h) Transparent. Agencies shall be transparent in disclosing relevant information regarding their use of AI to appropriate stakeholders, including the Congress and the public, to the extent practicable and in accordance with applicable laws and policies, including with respect to the protection of privacy and of sensitive law enforcement, national security, and other protected information.

(i) Accountable. Agencies shall be accountable for implementing and enforcing appropriate safeguards for the proper use and functioning of their applications of AI, and shall monitor, audit, and document compliance with those safeguards. Agencies shall provide appropriate training to all agency personnel responsible for the design, development, acquisition, and use of AI.

Sec. 4. Implementation of Principles. (a) Existing OMB policies currently address many aspects of information and information technology design, development, acquisition, and use that apply, but are not unique, to AI. To the extent they are consistent with the Principles set forth in this order and applicable law, these existing policies shall continue to apply to relevant aspects of AI use in Government.

(b) Within 180 days of the date of this order, the Director of OMB (Director), in coordination with key stakeholders identified by the Director, shall publicly post a roadmap for the policy guidance that OMB intends to create or revise to better support the use of AI, consistent with this order. This roadmap shall include, where appropriate, a schedule for engaging with the public and timelines for finalizing relevant policy guidance. In addressing novel aspects of the use of AI in Government, OMB shall consider updates to the breadth of its policy guidance, including OMB Circulars and Management Memoranda.

(c) Agencies shall continue to use voluntary consensus standards developed with industry participation, where available, when such use would not be inconsistent with applicable law or otherwise impracticable. Such standards shall also be taken into consideration by OMB when revising or developing AI guidance.

Sec. 5. Agency Inventory of AI Use Cases. (a) Within 60 days of the date of this order, the Federal Chief Information Officers Council (CIO Council), in coordination with other interagency bodies as it deems appropriate, shall identify, provide guidance on, and make publicly available the criteria, format, and mechanisms for agency inventories of non-classified and non-sensitive use cases of AI by agencies.

(b) Within 180 days of the CIO Council's completion of the directive in section 5(a) of this order, and annually thereafter, each agency shall prepare an inventory of its non-classified and non-sensitive use cases of AI, within the scope defined by section 9 of this order, including current and planned uses, consistent with the agency's mission.

(c) As part of their respective inventories of AI use cases, agencies shall identify, review, and assess existing AI deployed and operating in support of agency missions for any inconsistencies with this order.

(i) Within 120 days of completing their respective inventories, agencies shall develop plans either to achieve consistency with this order for each AI application or to retire AI applications found to be developed or used in a manner that is not consistent with this order. These plans must be approved by the agency-designated responsible official(s), as described in section 8 of this order, within this same 120-day time period.

(ii) In coordination with the Agency Data Governance Body and relevant officials from agencies not represented within that body, agencies shall strive to implement the approved plans within 180 days of plan approval, subject to existing resource levels.

(d) Within 60 days of the completion of their respective inventories of use cases of AI, agencies shall share their inventories with other agencies, to the extent practicable and consistent with applicable law and policy, including those concerning protection of privacy and of sensitive law enforcement, national security, and other protected information. This sharing shall be coordinated through the CIO and Chief Data Officer Councils, as well as other interagency bodies, as appropriate, to improve interagency coordination and information sharing for common use cases.

(e) Within 120 days of the completion of their inventories, agencies shall make their inventories available to the public, to the extent practicable and in accordance with applicable law and policy, including those concerning the protection of privacy and of sensitive law enforcement, national security, and other protected information.

Sec. 6. Interagency Coordination. Agencies are expected to participate in interagency bodies for the purpose of advancing the implementation of the Principles and the use of AI consistent with this order. Within 45 days of this order, the CIO Council shall publish a list of recommended interagency bodies and forums in which agencies may elect to participate, as appropriate and consistent with their respective authorities and missions.

Sec. 7. AI Implementation Expertise. (a) Within 90 days of the date of this order, the Presidential Innovation Fellows (PIF) program, administered by the General Services Administration (GSA) in collaboration with other agencies, shall identify priority areas of expertise and establish an AI track to attract experts from industry and academia to undertake a period of work at an agency. These PIF experts will work within agencies to further the design, development, acquisition, and use of AI in Government, consistent with this order.

(b) Within 45 days of the date of this order, the Office of Personnel Management (OPM), in coordination with GSA and relevant agencies, shall create an inventory of Federal Government rotational programs and determine how these programs can be used to expand the number of employees with AI expertise at the agencies.

(c) Within 180 days of the creation of the inventory of Government rotational programs described in section 7(b) of this order, OPM shall issue a report with recommendations for how the programs in the inventory can be best used to expand the number of employees with AI expertise at the agencies. This report shall be shared with the interagency coordination bodies identified pursuant to section 6 of this order, enabling agencies to better use these programs for the use of AI, consistent with this order.

Sec. 8. Responsible Agencies and Officials. (a) For purposes of this order, the term “agency” refers to all agencies described in section 3502, subsection (1), of title 44, United States Code, except for the agencies described in section 3502, subsection (5), of title 44.

(b) This order applies to agencies that have use cases for AI that fall within the scope defined in section 9 of this order, and excludes the Department of Defense and those agencies and agency components with functions that lie wholly within the Intelligence Community. The term “Intelligence Community” has the meaning given the term in section 3003 of title 50, United States Code.

(c) Within 30 days of the date of this order, each agency shall specify the responsible official(s) at that agency who will coordinate implementation of the Principles set forth in section 3 of this order with the Agency Data Governance Body and other relevant officials and will collaborate with the interagency coordination bodies identified pursuant to section 6 of this order.

Sec. 9. Scope of Application. (a) This order uses the definition of AI set forth in section 238(g) of the National Defense Authorization Act for Fiscal Year 2019 as a reference point. As Federal Government use of AI matures and evolves, OMB guidance developed or revised pursuant to section 4 of this order shall include such definitions as are necessary to ensure the application of the Principles in this order to appropriate use cases.

(b) Except for the exclusions set forth in section 9(d) of this order, or provided for by applicable law, the Principles and implementation guidance in this order shall apply to AI designed, developed, acquired, or used specifically to advance the execution of agencies' missions, enhance decision making, or provide the public with a specified benefit.

(c) This order applies to both existing and new uses of AI; both stand-alone AI and AI embedded within other systems or applications; AI developed both by the agency or by third parties on behalf of agencies for the fulfilment of specific agency missions, including relevant data inputs used to train AI and outputs used in support of decision making; and agencies' procurement of AI applications.

(d) This order does not apply to:

(i) AI used in defense or national security systems (as defined in 44 U.S.C. 3552(b)(6) or as determined by the agency), in whole or in part, although agencies shall adhere to other applicable guidelines and principles for defense and national security purposes, such as those adopted by the Department of Defense and the Office of the Director of National Intelligence;

(ii) AI embedded within common commercial products, such as word processors or map navigation systems, while noting that Government use of such products must nevertheless comply with applicable law and policy to assure the protection of safety, security, privacy, civil rights, civil liberties, and American values; and

(iii) AI research and development (R&D) activities, although the Principles and OMB implementation guidance should inform any R&D directed at potential future applications of AI in the Federal Government.

Sec. 10. General Provisions. (a) Nothing in this order shall be construed to impair or otherwise affect:

(i) the authority granted by law to an executive department or agency, or the head thereof; or

(ii) the functions of the Director relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 3, 2020.

[FR Doc. 2020-27065

Filed 12-7-20; 8:45 am]

Billing code 3295-F1-P